DEPARTMENT OF JUSTICE

Antitrust Division

Notice Pursuant to the National Cooperative Research and Production Act of 1993—Kitchen Cabinet Manufacturers Association

Notice is hereby given that, on September 15, 2004, pursuant to Section 6(a) of the National Cooperative Research and Production Act of 1993, 15 U.S.C. 4301 et seq. (“the Act”), Kitchen Cabinet Manufacturers Association (“KCMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Kitchen Cabinet Manufacturers Association, Reston, VA. The nature and scope of KCMA's standards development activities are: The development of performance and construction standards for kitchen and vanity cabinets and performance standards for fabricated high pressure decorative laminate countertops.

Dorothy B. Fountain,
Deputy Director of Operations, Antitrust Division.

[FR Doc. 04-24577 Filed 11-2-04; 8:45 am]

BILLING CODE 4410-11-M